DEPARTMENT OF ENERGY

Privacy Act of 1974; Notice to Amend an Existing System of Records

AGENCY: U.S. Department of Energy.

ACTION: Notice.

SUMMARY: As required by the Privacy Act of 1974, 5 U.S.C. 552a, and the Office of Management and Budget (OMB) Circular A-130, the Department of Energy (DOE) is publishing a notice of a proposed amendment to an existing system of records. DOE proposes to amend and change the name of DOE-21 “Emergency Defense Mobilization Files” to DOE-21 “Asset Readiness Management System (ARMS)” and convert the system from paper records to an electronic information system.

This notice will provide a clearer description of the categories of personal information contained in the system of records and identify the purpose and authorities for collecting and maintaining this information.

DATES: The proposed amendment to this existing system of records will become effective without further notice on February 20, 2007 unless DOE receives adverse comments and determines that this amendment should not become effective on that date.

ADDRESSES: Written comments should be directed to the following address: U.S. Department of Energy, Deborah Wilber, Director, Office of Emergency Response, National Nuclear Security Administration, NA-42, 1000 Independence Avenue, SW, Washington, DC 20585.

FOR FURTHER INFORMATION CONTACT: Abel Lopez, Director, Freedom of Information Act and Privacy Group, MA-74, U.S. Department of Energy, 1000 Independence Avenue, SW., Washington, DC 20585, (202) 586-5955; Isiah Smith, Deputy Assistant General Counsel for General Law, GC-77, U.S. Department of Energy, 1000 Independence Avenue, SW., Washington DC 20585, (202) 586-5000; David S. Jonas, Office of the General Counsel, National Nuclear Security Administration, NA-3.1, U.S. Department of Energy, 1000 Independence Avenue SW., Washington DC 20585, (202) 586-5000; and Deborah Wilber, Director, Office of Emergency Response, National Nuclear Security Administration, NA-42, 1000 Independence Avenue, SW., Washington DC 20585, (202) 586-2920.

SUPPLEMENTARY INFORMATION: In 1974, the Atomic Energy Commission, a predecessor agency of DOE, established a program called the Nuclear Emergency Search Team (NEST) to prevent and/or respond to emergencies involving nuclear or radiological materials by providing the personnel, equipment and resources necessary to search for, locate and deactivate nuclear or radiological devices. In this way, NEST provides technical assistance to the Federal Bureau of Investigation (FBI) and the Department of State (DOS), the lead federal agency for terrorism response outside the United States. Under the Atomic Energy Act, the FBI is responsible for investigating illegal activities, including terrorist threats, involving the possible illicit use of nuclear materials within the United States. The events of September 11, 2001 and the threat of nuclear terrorism have resulted in an increased impetus for ensuring that such federal government emergency response capabilities are ready to respond on short notice. To deploy NEST resources more rapidly and effectively, DOE plans to amend its system of records that maintain information about emergency response resources.

Since September 11, 2001, DOE's emergency response mission has expanded and now includes minimizing as well as preventing the consequences of an event involving nuclear or radiological materials. For example, in the case of an accidental release of radiological materials, DOE will be able to use the information in this system of records to deploy teams that use radiation-monitoring equipment to detect and measure radiation contamination levels and provide information to state and local officials to determine what geographical areas need to be evacuated. DOE also will be able to use the information in this system of records to mobilize medical personnel to advise on the treatment of injuries resulting from radiation exposure.

Homeland Security Presidential Directive HSPD-5 “Management of Domestic Incidents” mandated the development of an intergovernmental agency National Response Plan (NRP) to direct federal government agency capabilities and resources into a coordinated, unified domestic catastrophic incident management and response system. DOE's responsibilities relating to the federal government response to a domestic nuclear or radiological incident are detailed in the Nuclear/Radiological Incident Annex of the NRP. The Homeland Security Act of 2002 further outlines DOE's responsibilities for managing the readiness of capabilities and assets that may be called upon to respond to a nuclear or radiological incident. The Office of Emergency Response of the National Nuclear Security Administration (NNSA) at the DOE will use ARMS to monitor readiness status and fulfill its responsibilities for managing, training, equipping and deploying DOE's response teams. The teams will consist of DOE and NNSA employees, contractor employees, employees from other federal agencies, and military personnel.

DOE proposes to amend and change the name of DOE-21 “Emergency Defense Mobilization Files” to DOE-21 “Asset Readiness Management System (ARMS)” and convert the system from a paper file system to an electronic information system. In addition, DOE also proposes to establish a new routine use for the system of records. The proposed routine use will allow the disclosure of identifiable information to agents approved by NNSA Office of Emergency Response.

The approved agents will be representatives from the FBI, the Department of Defense (DOD), the Nuclear Regulatory Commission (NRC), the Environmental Protection Agency (EPA), the National Aeronautics and Space Administration (NASA), the Department of Homeland Security (DHS), and DOS. The agents will use the information exclusively to deploy and verify the identity of an individual for the purpose of gaining access to incident response security areas. This disclosure of identifiable information is compatible with the purpose for which this information is collected and maintained.

The information maintained in the system of records includes social security number, employee number, date of hire, DOE badge number, security clearance number, date of birth, tourist passport number, official passport number, education level, blood type, immunization record, and other medical information. An individual's social security number, DOE badge number, security clearance number, date of birth, tourist passport number, and official passport number will be used to gain access to emergency incident areas controlled by the FBI, DOD, NRC, EPA, NASA, DHS, and DOS, and to create official travel manifests, to obtain visas necessary for official foreign travel. Date of hire information will be used to determine seniority and experience level of emergency response team members. Education level information will be needed to determine whether an individual meets the initial qualification level requirements for certain positions on an emergency response team. Blood type, immunization record, and other medical information will be used to determine the personal state of readiness of individual emergency response personnel. Employee number and DOE badge number information will be used during nuclear incidents to help DOE keep track of personnel available to deploy.

DOE is submitting the report required by OMB Circular A-130 concurrently with the publication of this notice. The text of this notice contains information required by the Privacy Act, 5 U.S.C. 552a(e)(4).

Issued in Washington, DC on December 27, 2006.
Ingrid A.C. Kolb,
Director Office of Management.

DOE-21

SYSTEM NAME:

Asset Readiness Management System (ARMS).

SECURITY CLASSIFICATION:

Classified/Unclassified.

SYSTEM LOCATION:

U.S. Department of Energy, 1000 Independence Avenue, SW., Washington, DC 20585.

CATEGORIES OF INDIVIDUALS COVERED BY THE SYSTEM:

Federal employees, military personnel, and contractors.

CATEGORIES OF RECORDS IN THE SYSTEM:

The following information may be maintained in the system: Name, home address, telephone number, e-mail address, social security number, employee number, date of hire, DOE badge number, security clearance number, date of birth, tourist passport number, official passport number, education level, blood type, immunization record, and other medical information.

AUTHORITY OF MAINTENANCE OF THE SYSTEM:

42 U.S.C. 7101 et seq.; 50 U.S.C. 2401 et seq.; Homeland Security Presidential Directive HSPD-5 “Management of Domestic Incidents,” The Homeland Security Act of 2002, Pub. L. 107-296, 116 Stat. 2135 (Nov. 25, 2002), Robert T. Stafford Disaster Relief and Emergency Assistance Act, Pub. L. 106-390, 114 Stat. 1552-1575 (October 30, 2000).

PURPOSE:

The records will be maintained and used by the Office of Emergency Response to quantify, monitor, and track readiness of and deploy personnel and equipment as part of a coordinated federal government response to an emergency involving nuclear and/or radiological materials.

ROUTINE USES OF RECORDS MAINTAINED IN THE SYSTEM, INCLUDING CATEGORIES OF USERS AND THE PURPOSES OF SUCH USES:

1. A record from this system may be disclosed as a routine use to officials of the Federal Bureau of Investigation, Department of Defense, Nuclear Regulatory Commission, Environmental Protection Administration, National Aeronautics Space Administration, Department Homeland Security, and Department of State who have been approved as agents by NNSA Office of Emergency Response for purposes of managing and assessing state of readiness, to obtain visas for official foreign travel, and to provide information to gain access to incident areas controlled by one or more U.S. government agencies under the National Response Plan.

2. A record from this system may be disclosed as a routine use to a DOE contractor employee who has been approved as an agent by NNSA Office of Emergency Response in performance of the contract. Those provided information under this routine use are subject to the same limitations applicable to DOE officers and employees under the Privacy Act.

POLICIES AND PRACTICES FOR STORING, RETRIEVING, ACCESSING, RETAINING AND DISPOSING OF RECORDS IN THE SYSTEM:

STORAGE:

Records will be stored as electronic records in a computer database.

RETRIEVABILITY:

Records may be retrieved by name, employee number, e-mail address, work telephone number, and home telephone number.

SAFEGUARDS:

Electronic records are controlled through established DOE computer center procedures (personnel screening and physical security), and they are password protected. Passwords are known only by the system administrator and users of the system. Access is limited to those whose official duties require access to the records.

RETENTION AND DISPOSAL:

A request for approval of the records disposition schedule for this system is being provided to the National Archives and Records Administration. Questions regarding records contained in the system may be addressed to Records Manager, ORISE, Oak Ridge, Tennessee (865-576-2641).

SYSTEM MANAGER(S) AND ADDRESS(ES):

Headquarters: U.S. Department of Energy, Director, Office of Emergency Response, National Nuclear Security Administration, 1000 Independence Avenue, SW., Washington, DC 20585.

NOTIFICATION PROCEDURES:

In accordance with the DOE regulation implementing the Privacy Act, at Title 10, Code of Federal Regulations, Part 1008, a request by an individual to determine if a system of records contains information about him/her should be directed to the Director, Headquarters Freedom of Information Act and Privacy Act Group, U.S. Department of Energy. The request should include the requester's complete name and time period for which records are sought.

RECORD ACCESS PROCEDURES:

Same as Notification Procedures above. In accordance with the DOE Privacy Act regulation, proper identification is required before the request is processed.

CONTESTING RECORD PROCEDURES:

Same as Notification Procedures above.

RECORD SOURCE CATEGORIES:

The subject individual and site training records.

SYSTEM EXEMPTED FROM CERTAIN PROVISIONS OF THE PRIVACY ACT:

None.

[FR Doc. E6-22547 Filed 1-3-07; 8:45 am]

BILLING CODE 6450-01-P